DEPARTMENT OF HOMELAND SECURITY

U.S. Customs and Border Protection

19 CFR Chapter I

Notification of Temporary Travel Restrictions Applicable to Land Ports of Entry and Ferries Service Between the United States and Canada; Correction

AGENCY: Office of the Secretary, U.S. Department of Homeland Security; U.S. Customs and Border Protection, U.S. Department of Homeland Security.

ACTION: Notification of continuation of temporary travel restrictions; correction.

SUMMARY: The Department of Homeland Security (DHS) is making corrections to a notice that appeared in the Federal Register on December 22, 2020. The document contained incorrect dates.

DATES: The corrections apply to the notification published in the Federal Register December 22, 2020.

FOR FURTHER INFORMATION CONTACT: Stephanie Watson, Office of Field Operations Coronavirus Coordination Cell, U.S. Customs and Border Protection (CBP) at 202-325-0840.

SUPPLEMENTARY INFORMATION:

Correction

In the Federal Register of December 22, 2020, in FR Doc. 2020-28381—

• On page 83432, in the first column, correct the words “January 21, 2020.” to read, “January 21, 2021.”; and

• On page 83433, in the second column, correct the words “January 21, 2020.” to read, “January 21, 2021.”

Christina E. McDonald,
Associate General Counsel for Regulatory Affairs.

[FR Doc. 2020-28875 Filed 1-15-21; 8:45 am]

BILLING CODE 9111-12-P